DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for Wednesday, October 1, 2008, starting at 9 a.m. Pacific Daylight Time. Arrange for oral presentations by September 16, 2008.

ADDRESSES: FAA-Northwest Mountain Region Office, Transport Standards Staff conference room, 1601 Lind Ave. SW., Renton, WA 98507.

FOR FURTHER INFORMATION CONTACT: Ralen Gao, Office of Rulemaking, ARM-209, FAA, 800 Independence Avenue, SW., Washington, DC 20591, Telephone (202) 267-3168, FAX (202) 267-5075, or e-mail at ralen.gao@faa.gov.

SUPPLEMENTARY INFORMATION: Pursuant to Section 10(a)(2) of the Federal Advisory Committee Act (Pub. L. 92-463; 5 U.S.C. app. III), notice is given of an ARAC meeting to be held October 1, 2008.

The agenda for the meeting is as follows:

• Opening Remarks, Review Agenda and Minutes.

• FAA Report.

• Excom Report.

• Transport Canada Report.

• Airplane-level Safety Analysis Working Group Report.

• Task 4 Status.

• Propeller Harmonization Working Group (HWG) Report.

• Ice protection HWG Report.

• Airworthiness Assurance HWG Report.

• Avionics HWG Report.

• Halon Replacement as Fire Extinguishing Agent.

• Any Other Business.

• Action Item Review.

Attendance is open to the public, but will be limited to the availability of meeting room space. Please confirm your attendance with the person listed in the FOR FURTHER INFORMATION CONTACT section no later than September 16, 2008. Entrance to the FAA facility will require presentation of a valid passport or state-issued (US) identification (e.g, driver's license). Please plan on arriving at least 20 minutes in advance of meeting to facilitate entrance screening.

For persons participating by telephone, the call-in number is (202) 366-3920; the pass code is “2816.” To insure that sufficient telephone lines are available, please notify the person listed in the FOR FURTHER INFORMATION CONTACT section of your intent to participate by telephone by September 16, 2008. Anyone calling from outside the Seattle, WA metropolitan area will be responsible for paying long-distance charges.

The public must make arrangements by September 16, 2008, to present oral statements at the meeting. Written statements may be presented to the ARAC at any time by providing 25 copies to the person listed in the FOR FURTHER INFORMATION CONTACT section or by providing copies at the meeting. Copies of the documents to be presented to ARAC for decision by the FAA may be made available by contacting the person listed in the FOR FURTHER INFORMATION CONTACT section.

If you need assistance or require a reasonable accommodation for the meeting or meeting documents, please contact the person listed in the FOR FURTHER INFORMATION CONTACT section. Sign and oral interpretation, as well as a listening device, can be made available if requested 10 calendar days before the meeting.

Issued in Washington, DC on September 3, 2008.
Pamela Hamilton-Powell,
Director, Office of Rulemaking.

[FR Doc. E8-20747 Filed 9-5-08; 8:45 am]

BILLING CODE 4910-13-P